DEPARTMENT OF COMMERCE

Foreign-Trade Zones Board

[B-52-2024]

Foreign-Trade Zone (FTZ) 235, Notification of Proposed Production Activity; Renaissance Lakewood, LLC; (Prescription Nasal Spray Products); Lakewood, New Jersey

The Township of Lakewood, grantee of FTZ 235, submitted a notification of proposed production activity to the FTZ Board (the Board) on behalf of Renaissance Lakewood, LLC (Renaissance) for Renaissance's facilities in Lakewood, New Jersey within FTZ 235. The notification conforming to the requirements of the Board's regulations (15 CFR 400.22) was received on September 30, 2024.

Pursuant to 15 CFR 400.14(b), FTZ production activity would be limited to the specific foreign-status material/component and specific finished product(s) described in the submitted notification (summarized below) and subsequently authorized by the Board. The benefits that may stem from conducting production activity under FTZ procedures are explained in the background section of the Board's website—accessible via www.trade.gov/ftz.

The proposed finished products include calcitonin gene-related peptide receptor antagonist (prescription nasal spray-packaged) and calcitonin gene-related peptide receptor antagonist (prescription nasal spray-unpackaged) (duty-free).

The proposed foreign-status material/component includes zavegepant hydrochloride (active pharmaceutical ingredient) (duty rate of 6.5%). The request indicates that certain materials/components are subject to duties under section 301 of the Trade Act of 1974 (section 301), depending on the country of origin. The applicable section 301 decisions require subject merchandise to be admitted to FTZs in privileged foreign status (19 CFR 146.41).

Public comment is invited from interested parties. Submissions shall be addressed to the Board's Executive Secretary and sent to: ftz@trade.gov. The closing period for their receipt is November 25, 2024.

A copy of the notification will be available for public inspection in the “Online FTZ Information System” section of the Board's website.

For further information, contact Kolade Osho at Kolade.Osho@trade.gov.

Dated: October 8, 2024.
Elizabeth Whiteman,
Executive Secretary.

[FR Doc. 2024-23698 Filed 10-11-24; 8:45 am]

BILLING CODE 3510-DS-P